DEPARTMENT OF THE INTERIOR

Bureau of Land Management

Notice of Realty Action; Modified Competitive Sale of Public Lands; Arizona [Case No. AZA 31108]

AGENCY: Bureau of Land Management, Interior.

ACTION: Notice.

SUMMARY: The following land has been found suitable for sale under section 203 of the Federal Land Policy and Management Act of 1976 (90 Stat. 2750, 43 U.S.C. 1713), at not less than the estimated fair market value (FMV) of $57,000. The lands will not be offered for sale for at least 60 days following the date of this notice.

Gila and Salt River Meridian, Arizona

T. 18 S., R. 10 E.

Sec. 1, SW¼SW¼;

Sec. 2, lot 10.

The area described contains 69.19 acres.

In accordance with section 7 of the Taylor Grazing Act, 43 U.S.C. 315f, and Executive Order No. 6910, the described lands are hereby classified for disposal by sale. The described lands are classified for disposal and this proposed sale is in conformance with the Safford Resource Management Plan, dated December 1988 and amendment dated July 1994.

The land described is hereby segregated from appropriation under the public land laws, including the mining laws, pending disposition of this action, or 270 days from the date of publication of this notice, whichever occurs first.

The land will be offered for sale at public auction beginning at 10:00 a.m. MST, on October 17, 2001, at 12661 East Broadway, Tucson, Arizona 85748. This sale will be by modified competitive procedures. TRRI, Inc., a Florida Corporation, formally known as Treasure/ Rockhound Ranches, Inc., a Florida Corporation, dba, Camper Ranch of America will be given the opportunity to meet the highest bid received at public auction. Sale will be by sealed bid only. The purpose of the sale is to resolve trespass/unauthorized uses and developments on the subject public lands.

All sealed bids must be submitted to the BLM's Tucson Field Office at 12661 East Broadway, Tucson, Arizona 85748, not later than 4:00 p.m. MTS, October 16, 2001. Bid envelopes must be marked on the left front corner with the file number AZA 31108 and sale date. Bids must be for not less than the appraised FMV specified in this notice. Each sealed bid shall be accompanied by a certified check, postal money order, bank draft, or cashier's check made payable to the Department of Interior, BLM, for not less than 10 percent of the amount bid, plus a $50.00, filing fee for the mineral estate for the subject lands.

The patent, when issued, will contain certain reservations to the United States and will be subject to existing easements as outlined below:

1. A right-of-way is reserved for ditches and canals constructed by the authority of the United States under the authority of the Act of August 30, 1890 (26 Stat. 291; 43 U.S.C. 945).

2. The patent will be subject to all valid existing rights including a reservation for road rights-of-way in conjunction with the Pima County road network.

3. Any existing range improvements, e.g., fences, water troughs.

Federal law requires that all bidders must be U.S. citizens 18 years old or older, or in the case of corporations, be subject to the laws of any State of the U.S. Proof of these requirements must accompany the bid.

Under modified competitive sale procedures, an apparent high bid will be declared at public auction. The apparent high bidder and the designated bidder TRRI, Inc., a Florida Corporation, formerly known as Treasure/ Rockhound Ranches, Inc., a Texas corporation, dba, Camper Ranch of America will be notified. The designated bidder shall have thirty (30) days from the date of the sale to exercise the preference consideration given to meet the high bid and to submit a partial payment of 20% of the purchase price. Should the designated bidder fail to submit a bid that matches the apparent high bid within the specified time period, the apparent high bidder shall be declared high bidder. The remaining total purchase price for the land shall be paid within 180 days of the date of the sale.

The purchase price does not include a value for any existing range or other miscellaneous improvements nor does BLM warrant or confirm there is legal access to the subject parcels. Legal access to the subject property may have to be obtained from the adjacent property owners. The purchaser will not be required to reimburse the grazing lessee or Treasure/Rockhound Ranches, Inc., etc., for any existing range improvements since they are without value. Improvements on the subject property include: A waste dump station, range fences and a slight overhang encroachment of less than 2 feet of a club house building's roof along the east property line.

Detailed information concerning the sale, including the reservations, procedures for and conditions of sale, and planning and environmental documents, is available at the Tucson Field Office, Bureau of Land Management, 12661 East Broadway, Tucson, Arizona 85748 during the office hours of 7:45 a.m. to 4:15 p.m.

For a period of 45 days from the date of publication of this notice in the Federal Register, interested parties may submit comments to the Field Office Manager, Tucson Field Office, at the above address. In the absence of timely objections, this proposal shall become the final determination of the Department of the Interior.

Dated: July 5, 2001.
Tony J. Herrell,
Field Office Manager.

[FR Doc. 01-19210 Filed 7-31-01; 8:45 am]

BILLING CODE 4310-32-P